COMMISSION ON CIVIL RIGHTS

Notice of Public Meeting of the Louisiana Advisory Committee; Cancellation

AGENCY: Commission on Civil Rights.

ACTION: Notice; cancellation of meeting.

SUMMARY: The Commission on Civil Rights published a notice in the Federal Register concerning a meeting of the Louisiana Advisory Committee. The meeting, scheduled for Thursday, August 21, 2025, at 10:00 a.m. CST, has been cancelled. The notice is in the Federal Register on Monday, August 4, 2025, in FR Document Number 2025-14714 on page 36419.

FOR FURTHER INFORMATION CONTACT: Corrine Sanders, Support Services Specialist, at csanders@usccr.gov or (202) 768-5474.

Dated: August 13, 2025.
David Mussatt,
Supervisory Chief, Regional Programs Unit.

[FR Doc. 2025-15546 Filed 8-14-25; 8:45 am]

BILLING CODE P